DEPARTMENT OF AGRICULTURE

Rural Utilities Service

Southern Intertie Project; Notice of Availability of a Final Environmental Impact Statement

AGENCY: Rural Utilities Service, USDA.

ACTION: Notice of availability of a final environmental impact statement.

SUMMARY: Notice is hereby given that the Rural Utilities Service (RUS) has released for public review the Final Environmental Impact Statement (FEIS) for the Southern Intertie Project. The project, being proposed by the Intertie Participants Group (IPG), is the construction of a 138 kilovolt (kV) transmission line between the Kenai Peninsula and Anchorage, Alaska. The RUS is the lead Federal agency in the environmental review process. The U.S. Fish and Wildlife Service (USFWS) and the U.S. Army Corps of Engineers (USACE) are serving as cooperating agencies.

FOR FURTHER INFORMATION CONTACT: Lawrence R. Wolfe, Senior Environmental Protection Specialist, Engineering and Environmental Staff, USDA Rural Utilities Service, Stop 1571, 1400 Independence Avenue, SW, Washington, DC 20250-1571, telephone (202) 720-1784, fax (202) 720-0820. The E-mail address is: lwolfe@rus.usda.gov.

SUPPLEMENTARY INFORMATION: The IPG has proposed a new 138 kV transmission line in order to improve the overall Railbelt electrical system reliability and energy transfer capabilities between the Kenai Peninsula and Anchorage. The IPG proposed alternative, the Enstar Route, would connect the Soldotna Substation on the Kenai Peninsula with the International Substation in Anchorage. This alternative would parallel the Enstar Pipeline through the Kenai National Wildlife Refuge (KNWR). The environmentally preferred alternative, the Tesoro Route, would connect the Bernice Lake Substation on the Kenai Peninsula with the Pt. Woronzof Substation in Anchorage. This alternative would parallel the Tesoro Pipeline from the Captain Cook State Recreational Area to Pt. Possession. The Draft Environmental Impact Statement (DEIS) analyzed the potential impacts of constructing and operating a 138 kV transmission line along both the Enstar and Tesoro Routes. The DEIS also evaluated a number of routing alternatives and related system improvements between the proposed substation connections, in addition to alternative technologies and the no-action alternative.

Notices of availability of the DEIS were published in the Federal Register on October 3, 2001 (66 FR 50396) by RUS and on October 5, 2001 (66 FR 51036) by EPA. The 60-day comment period on the DEIS ended on December 5, 2001.

As required by Title XI of Alaska National Interest Lands Conservation Act, public hearings were held on the DEIS in the District of Colombia on October 30, 2001, and within the State of Alaska, in Anchorage, on November 13, 2001, and in Soldotna, on November 14, 2001.

Public testimony at the three hearings was received from 12 persons. During the 60-day comment period, a total of 102 different comment letters were received from Federal, State, and municipal agencies, businesses, native corporations, non-profit organizations, and individuals. Two of the letters were e-mail form letters signed by 158 and 907 individuals, respectively, and one letter was in petition format with 12 signatures. The actual number of commentors was 1,174.

The FEIS incorporates information received on the DEIS and consists of two volumes. Volume I consists of an expanded Project Summary, responses to comments, including copies of the original correspondence, supplemental information, and corrections to the DEIS. The USFWS Compatibility Determination and the USACE Draft Evaluation of the Section 404(b)(1) Permit Application are appended to this volume. Volume II consists of the mitigation plan that was developed to either eliminate or minimize impacts associated with the construction and operation the proposed project utilizing either the Enstar or Tesoro Routes.

Copies of the FEIS have been sent to agencies, organizations, and individuals that received the DEIS. Additional copies of the FEIS are available for public review at the following public libraries in Anchorage: Z.J. Loussac Public Library; Chugiak-Eagle Public Library; Gerrish (Girdwood) Branch Library; Mountain View Branch Library; Muldoon Branch Library; and the Samson-Dimond Public Library. Copies will also be available for review at the following libraries on the Kenai Peninsula: Hope Community Library; Cooper Landing Community Library; Soldotna Public Library; and Kenai Community Library. In Washington, DC, copies are available for review at RUS offices. The FEIS is available online at http://www.usda.gov/rus/water/ees/eis.htm.

The FEIS is an informational document only. The purpose of the FEIS is to provide the public and decision makers' information on the potential environmental effects of the alternatives under consideration. The RUS, along with the USFWS and USACE, will consider information contained in the FEIS in rendering their respective decisions, which will be published in each agency's respective Record of Decision (ROD). A copy of the RUS ROD will be available online at the previously identified web site. A notice of availability of the ROD will be published in the Federal Register and in local Alaska newspapers.

Dated: July 1, 2002.
Blaine D. Stockton,
Assistant Administrator, Electric Program, Rural Utilities Service.

[FR Doc. 02-17326 Filed 7-9-02; 8:45 am]

BILLING CODE 3410-15-P